DEPARTMENT OF COMMERCE

National Oceanic and Atmospheric Administration

[Docket No. 960223046-2083-07; I.D. 032002A]

RIN 0648-ZA09

Financial Assistance for Research and Development Projects to Strengthen and Develop the U.S. Fishing Industry

AGENCY: National Marine Fisheries Service (NMFS), National

Oceanic and Atmospheric Administration (NOAA), Commerce.

ACTION: Notice of solicitation for applications.

SUMMARY: NMFS (hereinafter “we” or “us”) issues this document to describe how to apply for funding under the Saltonstall-Kennedy (S-K) Grant Program and how we will determine whether to fund a proposal.

Under the S-K Program, we provide financial assistance for research and development projects that address various aspects of U.S. fisheries (commercial or recreational), including, but not limited to, harvesting, processing, marketing, and associated infrastructures.

DATES: We must receive your application by the close of business July 15, 2002 in one of the offices listed in section I.H. Application Addresses of this document. You must submit one signed original and nine signed copies of the completed application (including supporting information). We will not accept facsimile applications.

ADDRESSES: You can get an application package from, and send your completed application(s) to, the NMFS Regional Administrator located at any of the offices listed in section I.H. of this document. You may also get the application package from the S-K Home Page (see section I.I.). However, we cannot accept completed applications electronically.

FOR FURTHER INFORMATION CONTACT: Alicia L. Jarboe, S-K Program Manager, (301) 713-2358.

SUPPLEMENTARY INFORMATION:

I. Introduction

We are soliciting applications for Federal assistance under the Saltonstall-Kennedy Act (S-K Act), as amended (15 U.S.C. 713c-3). This document describes how you can apply for funding under the S-K Grant Program, and how we will determine which applications we will fund. We will set aside $5 million of the expected $10.3 million available to fund projects under a new priority under section II.A., Atlantic Salmon Aquaculture Development Considering the Endangered Species Status of Atlantic Salmon. We will use the remaining estimated $5.3 million to fund the other priorities under sections II.B.-F.

A. Background

The S-K Act established a fund (known as the S-K fund) that the Secretary of Commerce uses to provide grants or cooperative agreements for fisheries research and development projects addressed to any aspect of U.S. fisheries, including, but not limited to, harvesting, processing, marketing, and associated infrastructures. U.S. fisheries include any fishery, commercial or recreational, that is, or may be, engaged in by citizens or nationals of the United States, or citizens of the Northern Mariana Islands (NMI), the Republic of the Marshall Islands, Republic of Palau, and the Federated States of Micronesia.

The objectives of the S-K Grant Program, and, therefore, the funding priorities, have changed since the program began in 1980. The program has evolved as fishery management laws and policies, and research needs, have evolved in response to changing circumstances.

The original focus of the program was to develop underutilized fisheries within the U.S. Exclusive Economic Zone (EEZ, i.e., 3-200 miles (5.6-370.4 kilometers) off the coast). This focus was driven in part by the Magnuson-Stevens Fishery Conservation and Management Act (Magnuson-Stevens Act). The Magnuson-Stevens Act, originally passed in 1976, directed us to give the domestic fishing industry priority access to the fishery resources in the EEZ. In 1980, the American Fisheries Promotion Act (AFPA) amended the S-K Act to stimulate commercial and recreational fishing efforts in underutilized fisheries. The competitive S-K Program initiated as a result of the AFPA included fisheries development and marketing as funding priorities.

In the following years, the efforts to Americanize the fisheries were successful to the point that most nontraditional species were fully developed and some traditional fisheries became overfished. Therefore, we changed the emphasis of the S-K Program to address conservation and management issues and aquaculture.

In 1996, the Sustainable Fisheries Act (SFA) (Pub. L. 104-297), was enacted. The SFA amended the Magnuson-Stevens Act and supported further adjustment to the S-K Program to address the current condition of fisheries.

The Magnuson-Stevens Act, as amended by the SFA, requires us to undertake efforts to prevent overfishing, rebuild overfished fisheries, insure conservation, protect essential fish habitat (EFH), and realize the full potential of U.S. fishery resources. It further requires that we take into account the importance of fishery resources to fishing communities; provide for the sustained participation of such communities; and, to the extent possible, minimize the adverse economic impacts of conservation and management measures on such communities. The Magnuson-Stevens Act defines a “fishing community” as “a community which is substantially dependent on or substantially engaged in the harvest or processing of fishery resources to meet social and economic needs, and includes fishing vessel owners, operators, and crew and United States fish processors that are based in such community.” (16 U.S.C. 1802 (16)). We have refocused the S-K Program to address the needs of fishing communities as defined by the Magnuson-Stevens Act.

The NOAA Strategic Plan, updated in 1998, has also shaped the S-K Program. The Strategic Plan has three goals under its Environmental Stewardship Mission: Build Sustainable Fisheries (BSF), Recover Protected Species, and Sustain Healthy Coasts. The fisheries research and development mission of the S-K Program directly relates to the BSF goal. There are three BSF objectives in the Strategic Plan:

1. Eliminate and prevent overfishing and excess harvesting capacity.

2. Attain economic sustainability in fishing communities.

3. Develop environmentally and economically sound marine aquaculture.

For the FY 2002 S-K Grant Program announced in this document, we have attempted to address the most important needs of fishing communities in terms of the preceding BSF objectives. This goal is reflected in the funding priorities listed in section II of this document. Successful applications will be those aimed at helping fishing communities to resolve issues that affect their ability to fish; make full use of currently managed species or explore the potential for development of new sustainable managed fisheries; develop environmentally sound aquaculture; and address the socioeconomic impacts of overfishing and excess harvesting capacity.

The S-K Program is open to applicants from a variety of sectors, including industry, academia, and state and local governments. We encourage applications that involve collaboration between industry and the other sectors listed.

B. Changes from the Last Solicitation Notice

We have made several changes in this document from the last S-K Grant Program solicitation notice published on March 7, 2001 (66 FR 13701). Therefore, we encourage you to read the entire document before preparing your application.

The scope of the program for FY 2002 is not limited to species under Federal jurisdiction (whether under Fishery Management Plans (FMPs) or not), but includes state managed fisheries as well.

We have added a new priority under section II.A., Atlantic Salmon Aquaculture Development Considering the Endangered Species Status of Atlantic Salmon. Maine's Atlantic salmon aquaculture industry is the top producer of cultured salmon in the United States and provides 2,500 jobs, generates $140 million in personal income, and serves as an increasingly important source of food protein to U.S. consumers.

Atlantic salmon in the eight Maine rivers were listed as endangered under the Endangered Species Act (ESA) (16 U.S.C. 1531-1544) in November 2000. Interbreeding with and competition from escaped farm-raised salmon from Maine's aquaculture industry may threaten the wild salmon population in the Gulf of Maine. The continuation of the Atlantic salmon aquaculture industry depends on eliminating the threats the industry poses to the endangered wild Atlantic salmon.

We will use $5 million of the expected $10.3 million available to fund only projects under this priority. The remaining $5.3 million will be allocated, in no predetermined amounts, among the other priority areas, including the additional priorities mentioned below.

Another new priority is Fishing Capacity Reduction under the Magnuson Stevens Act Sections 312(b)-(e). This replaces the priority Planning for Fishing Community Transition in our FY 2001 program.

We have also added a priority entitled, Fisheries Socioeconomics.

The Commerce Pre-Award Notification Requirements for Grants and Cooperative Agreements published in the Federal Register October 1, 2001 (66 FR 49917), are applicable to this solicitation. Therefore, this solicitation does not include a discussion of the individual requirements.

C. Funding

We expect to have approximately $10.3 million available for grant awards for Fiscal Year (FY) 2002, which began on October 1, 2001. However, we cannot guarantee that sufficient funds will be available to make awards for all proposals deserving of funding.In order to be funded under the S-K Grant Program, applications must propose activities that: address one of the funding priorities listed in section II of this document; are expected to produce a direct benefit (e.g., tool, information, service, or technology) to the fishing community (as defined in section I.A. of this document); and can be accomplished within 18 months. Acceptable research and development activities include applied research, demonstration projects, pilot or field testing, or business plan development. However, we will not fund projects that primarily involve infrastructure construction, port and harbor development, or start-up or operational costs for private business ventures. Furthermore, if your proposed project primarily involves data collection, we will only consider it if it is directed to a specific problem or need and has a fixed duration. We will not consider data collection programs of a continuing nature.

D. Eligibility

You are eligible to apply for a grant or a cooperative agreement under the S-K Grant Program if:

1. You are a citizen or national of the United States;

2. You are a citizen of the NMI, being an individual who qualifies as such under section 8 of the Schedule on Transitional Matters attached to the constitution of the NMI;

3. You are a citizen of the Republic of the Marshall Islands, Republic of Palau, or the Federated States of Micronesia; or

4. You represent an entity that is a corporation, partnership, association, or other non-Federal entity, non-profit or otherwise (including Indian tribes), if such entity is a citizen of the United States or NMI, within the meaning of section 2 of the Shipping Act, 1916, as amended (46 U.S.C. app. 802).

We support cultural and gender diversity in our programs and encourage women and minority individuals and groups to submit applications. Furthermore, we recognize the interest of the Secretaries of Commerce and Interior in defining appropriate fisheries policies and programs that meet the needs of the U.S. insular areas, so we also encourage applications from individuals, government entities, and businesses in U.S. insular areas.

We are strongly committed to broadening the participation of Minority Serving Institutions (MSIs), which include Historically Black Colleges and Universities, Hispanic Serving Institutions, and Tribal Colleges and Universities, in all of our programs, including S-K. Therefore, we encourage all applicants to include meaningful participation of MSIs.

We encourage applications from members of the fishing community, and applications that involve fishing community cooperation and participation. We will consider the extent of fishing community involvement when evaluating the potential benefit of funding a proposal.

You are not eligible to submit an application under this program if you are an employee of any Federal agency, a Fishery Management Council (Council), or an employee of a Council. However, Council members who are not Federal employees can submit an application to the S-K Program.

Our employees (whether full-time, part-time, or intermittent) are not allowed to help you prepare your application, except that S-K Program staff may provide you with information on program goals, funding priorities, application procedures, and completion of application forms. Since this is a competitive program, NMFS and NOAA employees will not help with conceptualizing, developing, or structuring proposals, or write letters of support for a proposal.

E. Duration and Terms of Funding

We will award grants or cooperative agreements for a maximum period of 18 months. We award cooperative agreements in those situations where we anticipate having substantial involvement in the project. “Substantial involvement” means we will share responsibility for management, control, direction, or performance of the project with you, the recipient of the award.

We do not fund multi-year projects under the S-K Program. If we select your application for funding and you wish to continue work on the project beyond the funding period, you must submit another proposal to the competitive process for consideration, and you will not receive preferential treatment.

Even though we are publishing this announcement, we are not required to award any specific grant or cooperative agreement, nor are we required to obligate any part or the entire amount of funds available.

F. Cost Sharing

We are requiring cost sharing in order to leverage the limited funds available for this program and to encourage partnerships among government, industry, and academia to address the needs of fishing communities. You must provide a minimum cost share of 10 percent of total (Federal and non-Federal combined) project costs, but your cost share must not exceed 50 percent of total costs.

You may find this formula useful:

1. Total Project Cost (Federal and non-Federal cost share combined) x .9 = Maximum Federal Share.

2. Total Cost - Federal share = Applicant Share.

For example, if the proposed total budget for your project is $100,000, the maximum Federal funding you can apply for is $90,000 ($100,000 x .9). Your cost share in this case would be $10,000 ($100,000 - $90,000).

For a total project cost of $100,000, you must contribute at least $10,000, but no more than $50,000 (10-50 percent of total project cost). Accordingly, the Federal share you apply for would range from $50,000 to $90,000. If your application does not comply with these cost share requirements, we will return it to you and will not consider it for funding.

The funds you provide as cost sharing may include funds from private sources or from state or local governments, or the value of in-kind contributions. You may not use Federal funds to meet the cost sharing requirement except as provided by Federal statute. In-kind contributions are non-cash contributions provided to you by non-Federal third parties. In-kind contributions may include, but are not limited to, personal services volunteered to perform tasks in the project, and permission to use, at no cost, real or personal property owned by others.

We will determine the appropriateness of all cost sharing proposals, including the valuation of in-kind contributions, on the basis of guidance provided in 15 CFR parts 14 and 24. In general, the value of in-kind services or property you use to fulfill your cost share will be the fair market value of the services or property. Thus, the value is equivalent to the cost for you to obtain such services or property if they had not been donated. You must document the in-kind services or property you will use to fulfill your cost share.

If we decide to fund your application, we will require you to account for the total amount of cost share included in the award document. (See 66 FR 49918, October 1, 2001, for additional information on cost sharing).

G. Catalog of Federal Domestic Assistance (CFDA)

The S-K Grant Program is listed in the CFDA under 11.427, Fisheries Development and Utilization Research and Development Grants and Cooperative Agreements Program.

H. Application Addresses

Northeast Region, NMFS, One Blackburn Drive, Gloucester, MA 01930; (978) 281-9267.

Southeast Region, NMFS, 9721 Executive Center Drive, North,

St. Petersburg, FL 33702-2432, (727) 570-5324.

Southwest Region, NMFS, 501 West Ocean Boulevard, Suite 4200, Long Beach, CA 90802-4213, (562) 980-4033.

Pacific Islands Area Office, NMFS, 1601 Kapiolani Boulevard, Suite 1110, Honolulu, HI 96814-4700, (808) 973-2937.

Northwest Region, NMFS, 7600 Sand Point Way, N.E., BIN C15700, Building 1, Seattle, WA 98115, (206) 526-6115.

Alaska Region, NMFS, P.O. Box 21668, Juneau, AK 99802 or

Federal Building, 709 West 9th Street, 4th Floor, Juneau, AK 99801-1668, (907) 586-7224.

I. Electronic Access Addresses

This solicitation and the application package are available on the NMFS S-K Home Page at: www.nmfs.noaa.gov/sfweb/skhome.html.

A copy of the Commerce Pre-Award Notification Requirements for Grants and Cooperative Agreements (66 FR 49917) is also available on the S-K Home Page.

The CFDA is available at: www:cfda.gov/.

The 1998 updated Executive Summary of the NOAA Strategic Plan is available at: www.strategic.noaa.gov/ and the Magnuson-Stevens Act is available at: www.nmfs.noaa.gov/sfa/magact/.

A list of institutions considered to be MSIs is available at: www.ed.gov/offices/OCR/minorityinst.html.

The Buyback Framework regulations pertaining to Priority B (50 CFR 600.1000 et seq.) are available at: www.access.gpo.gov/nara/cfr/waisidx_01/50cfr600_01.html.

Federal Business Opportunities (replacement for the Commerce Business Daily) is available at: www.fedbizopps.gov.

II. Funding Priorities

Your proposal must address one of the six priorities listed here.

If we do not receive proposals that adequately respond to the priorities listed, we may use S-K funds to carry out a national program of research and development addressed to aspects of U.S. fisheries pursuant to section 713c-3(d) of the S-K Act, as amended.

The priorities are not listed in any particular order and each is of equal importance, although the funds are partitioned between priority A and the remaining priorities. We will set aside $5 million to fund projects under Priority A. The remaining estimated $5.3 million may be used to fund projects under Priorities B through F. There is no similar predetermined allocation for portions of the $5.3 million among Priorities B through F.

If we do not receive sufficient fundable applications to use the entire $5 million reserved for Priority A, we will carry the remainder over to address the Atlantic salmon aquaculture priority in our FY 2003 competition.

A. Atlantic Salmon Aquaculture Development Considering the Endangered Species Status of Atlantic Salmon

Promote the continued development of the Atlantic salmon aquaculture industry, by minimizing the potential for negative impacts on wild Atlantic salmon, which is listed as endangered under the ESA. Acceptable activities include the development and testing of:

More secure cages to reduce farmed fish escapement;

Brood stock strains that grow more quickly, better resist disease, or pose less genetic threat to North Atlantic wild salmon stocks;

Improved marks or tags to trace potential escapes of farmed fish;

Vaccines or other methods to prevent the spread of disease between farmed fish and wild fish; and

Improved methods to monitor sea cage integrity and farmed fish disease.

Note, if your application addresses Priority A you should submit it to the NMFS Northeast Region, regardless of your location (see I.H., Application Addresses).

B. Fishing Capacity Reduction under the Magnuson-Stevens Act Sections 312(b)-(e)

Promote the reduction of excess harvesting capacity in appropriate fisheries by analyses and evaluations that prepare the proponents of buybacks financed by NMFS loans under Title XI of the Merchant Marine Act to consider, plan for, organize, justify, support, and effect financed buybacks. (See 50 CFR part 600.1000, et seq. for framework rules governing buybacks; see section I.I. for electronic address of rules.) Acceptable activities include, but are not limited to:

1. Analyzing cost/benefit to determine a fishery's potential for financed buyback, including:

a. Establishing the type of financed buyback (i.e., permit only or permit and vessel buyback) that reduces the maximum capacity at the least cost in the least amount of time;

b. Knowledgeably estimating various capacity ranges in a fishery that could be bought back at various cost ranges;

c. Evaluating harvesters' pre-buyback cost-income, how various buyback capacity/cost ranges could change post-buyback cost-income, the prospective ability of post-buyback harvesters to pay the estimated fees to service the buyback loan, and the benefits to them of doing so; and

d. Assuming the fishery's FMP already prohibits new entrants to the fishery, establishing the scope and possible content of appropriate FMP amendments that might first be required to effectively and permanently resolve latent capacity in that fishery prior to buyback, and to prevent post-buyback vessel upgrading or other circumstances from replacing the capacity that a buyback removes.

2. Evaluating detailed means and methods for industry buyback proponents in the fishery to efficiently and effectively:

a. Survey potential referendum voters (each permit holder in the buyback fishery) to establish the prospective degree of interest in, and support for, a financed buyback in that fishery, and

b. Prepare a successful financed buyback application and

business plan (see 50 CFR 600.1003).

In addition to the above, responsible proponents of financed buybacks in individual fisheries may also submit proposals to prepare actual financed buyback applications and business plans for that fishery.

Note, depending on the type of activity you propose, you may be required to obtain approval under the Paperwork Reduction Act (PRA) for surveys, etc., related to this priority. You should consider this when preparing your application and estimated time lines.

C. Conservation Engineering

Reduce or eliminate adverse interactions between fishing operations and nontargeted, protected, or prohibited species, including the inadvertent take, capture, or destruction of such species. These include juvenile or sublegal-sized fish and shellfish, females of certain crabs, fish listed under the ESA, marine turtles, seabirds, or marine mammals.

Improve the survivability of fish discarded or intentionally released and of protected species released in fishing operations.

Reduce or eliminate impacts of fishing activity on EFH that adversely affect the sustainability of the fishery.

D. Optimum Utilization of Harvested Resources under Federal or State Management

Reduce or eliminate factors such as diseases, human health hazards, and quality problems that limit the utilization of fish and their products in the United States and abroad.

Increase public knowledge of the safe handling and use of fish and their products.

Develop usable products from economic discards (defined in the Magnuson-Stevens Act as “fish which are the target of a fishery, but which are not retained because they are of an undesirable size, sex, or quality, or for other economic reasons”), underutilized species, and byproducts of processing.

Facilitate industry cooperation and outreach to promote and enhance marketability of regional U.S. fishery products.

Collect data on population dynamics, life histories, etc., of fish not currently under Federal FMPs, for the Councils to determine the feasibility of a new federally managed fishery that could provide additional fishing opportunity.

E. Marine Aquaculture

Advance the implementation of marine aquaculture by addressing technical aspects such as systems engineering, environmental compatibility, and culture technology.

Reduce or eliminate legal and social barriers to aquaculture development, e.g., legal constraints, use conflicts, exclusionary mapping, and appropriate institutional roles.

Address environmental issues for marine aquaculture, e.g., measure and reduce water quality and benthic community impacts; evaluate and reduce negative interactions between aquaculture and wild stocks, protected resources, and EFH; develop best management practices with scientific analysis and assessment of risk. Note, proposals pertaining to Atlantic salmon aquaculture should be submitted under Priority A.

Develop effective enhancement strategies for marine and anadromous species to help in the recovery of wild stocks.

F. Fisheries Socioeconomics

Improve the understanding of the socioeconomic aspects of fisheries to increase the knowledge base for making decisions that affect commercial, recreational, and subsistence fishing. Examples could include, but are not limited to, ethnographic baseline data on specific fishing communities; cost-income data; analyses of the socioeconomic impacts of specific management measures in certain fisheries; analyses of factors influencing demand for recreational fishing trips by anglers; and, market analyses to determine factors that influence demand and supply of specific seafood products, including imports.

Such initiatives must be discrete projects that can be carried out within an 18-month maximum project period. Studies must not duplicate or overlap any other ongoing socioeconomic data collection and analyses programs. We encourage projects that are industry-sponsored but involve the academic community or management agencies.

Note, depending on the type of activity you propose, you may be required to obtain approval under the PRA for surveys, etc., related to this priority. You should consider this when preparing your application and estimated time lines.

III. How to Apply

You must follow the instructions in this document in order to apply for a grant or cooperative agreement under the S-K Program. Your application must be complete and must follow the format described here. Your application should not be bound in any manner and must be printed on one side only. You must submit one signed original and nine signed copies of your application.

A. Cover Sheet

You must use Office of Management and Budget (OMB) Standard Form 424 and 424B (4-92) as the cover sheet for each project. (In order to complete item 16 of Standard Form 424, see section V.A.3. of this document.)

B. Project Summary

You must complete NOAA Form 88-204 (10-01), Project Summary, for each project. You must list on the Project Summary form the specific priority to which the application responds (see section II. of this document).

C. Project Budget

You must submit a budget for each project, using NOAA Form 88-205 (10-01), Project Budget and associated instructions. You must provide detailed cost estimates showing total project costs. Indicate the breakdown of costs between Federal and non-Federal shares, divided into cash and in-kind contributions. To support the budget, describe briefly the basis for estimating the value of the cost sharing derived from in-kind contributions. Specify estimates of the direct costs in the categories listed on the Project Budget form.

You may also include in the budget an amount for indirect costs if you have an established indirect cost rate with the Federal government. For this solicitation, the total dollar amount of the indirect costs you propose in your application must not exceed the indirect cost rate negotiated and approved by a cognizant Federal agency prior to the proposed effective date of the award, or 100 percent of the total proposed direct costs dollar amount in the application, whichever is less.

Furthermore, the Federal share of the indirect costs you propose must not exceed 25 percent of the total proposed direct costs. If your application requests more than 25 percent of the total costs as Federal funds to cover indirect costs, the application will be returned to you and will not be considered for funding.

If you have an approved indirect cost rate above 25 percent of the total proposed direct cost, you may use the amount above the 25-percent level up to the 100-percent level as part of the non-Federal share. You must include a copy of the current, approved, negotiated indirect cost agreement with the Federal government with your application. (See 66 FR 49919, October 1, 2001, for further information on indirect costs.)

We will not consider fees or profits as allowable costs in your application.

The total costs of a project consist of all allowable costs you incur, including the value of in-kind contributions, in accomplishing project objectives during the life of the project. A project begins on the effective date of an award agreement between you and an authorized representative of the U.S. Government and ends on the date specified in the award. Accordingly, we cannot reimburse you for time that you expend or costs that you incur in developing a project or preparing the application, or in any discussions or negotiations you may have with us prior to the award. We will not accept such expenditures as part of your cost share.

D. Narrative Project Description

You must provide a narrative description of your project that may be up to 15 pages long. The narrative should demonstrate your knowledge of the need for the project, and show how your proposal builds upon any past and current work in the subject area, as well as relevant work in related fields. You should not assume that we already know the relative merits of the project you describe. You must describe your project as follows:

1. Project goals and objectives. Identify the specific priority listed in section II to which the proposed project responds. Identify the problem/opportunity you intend to address and describe its significance to the fishing community. State what you expect the project to accomplish.

If you are applying to continue a project we previously funded under the S-K Program, describe in detail your progress to date and explain why you need additional funding. We will consider this information in evaluating your current application.

2. Project impacts. Describe the anticipated impacts of the project on the fishing community in terms of reduced bycatch, increased product yield, or other measurable benefits. Describe how you will make the results of the project available to the public.

3. Evaluation of project. Specify the criteria and procedures that you will use to evaluate the relative success or failure of a project in achieving its objectives.

4. Need for government financial assistance. Explain why you need government financial assistance for the proposed work. List all other sources of funding you have or are seeking for the project.

5. Federal, state, and local government activities and permits. List any existing Federal, state, or local government programs or activities that this project would affect, including activities requiring: certification under state Coastal Zone Management Plans; section 404 or section 10 permits issued by the Corps of Engineers; experimental fishing or other permits under FMPs; environmental impact statements to meet the requirements of the National Environmental Policy Act; scientific permits under the ESA and/or the Marine Mammal Protection Act; or Magnuson-Stevens Act EFH consultation if the project may adversely affect areas identified as EFH. Describe the relationship between the project and these FMPs or activities, and list names and addresses of persons providing this information. You can get information on these activities from the NMFS Regions (see Section I.H., Application Addresses). If we select your project for funding, you are responsible for complying with all applicable requirements.

6. Project statement of work. The statement of work is an action plan of activities you will conduct during the period of the project. You must prepare a detailed narrative, fully describing the work you will perform to achieve the project goals and objectives. The narrative should respond to the following questions:

(a) What is the project design? What specific work, activities, procedures, statistical design, or analytical methods will you undertake?

(b) Who will be responsible for carrying out the various activities? (Highlight work that will be subcontracted and provisions for competitive subcontracting.)

(c) What are the major products and how will project results be disseminated? Describe products of the project, such as a manual, video, technique, or piece of equipment. Indicate how project results will be disseminated to potential users.

(d) What are the project milestones? List milestones, describing the specific activities and associated time lines to conduct the scope of work. Describe the time lines in increments (e.g., month 1, month 2), rather than by specific dates. Identify the individual(s) responsible for the various specific activities.

This information is critical for us to conduct a thorough review of your application, so we encourage you to provide sufficient detail.

7. Participation by persons or groups other than the applicant. Describe how government and non-government entities, particularly members of fishing communities, will participate in the project, and the nature of their participation. We will consider the degree of participation by members of the fishing community in determining which applications to fund.

8. Project management. Describe how the project will be organized and managed. Identify the principal investigator and other participants in the project. If you do not identify the principal investigator, we will return your application without further consideration. Include copies of any agreements between you and the participants describing the specific tasks to be performed. Provide a statement no more than two pages long of the qualifications and experience (e.g., resume or curriculum vitae) of the principal investigator(s) and any consultants and/or subcontractors, and indicate their level of involvement in the project. If any portion of the project will be conducted through consultants and/or subcontracts, you must follow procurement guidance in 15 CFR part 24, “Grants and Cooperative Agreements to State and Local Governments,” and 15 CFR part 14, “Uniform Administrative Requirements for Grants and Agreements with Institutions of Higher Education, Hospitals, Other Non-Profit, and Commercial Organizations.” If you select a consultant and/or a subcontractor prior to submitting an application, indicate the process that you used for selection.

E. Supporting Documentation

You should include any relevant documents and additional information (i.e., maps, background documents) that will help us to understand the project and the problem/opportunity you seek to address.

IV. Screening, Evaluation, and Selection Procedures

A. Initial Screening of Applications

When we receive applications at any of the NMFS Regional Offices, we will first screen them to ensure that they were received by the deadline date (see DATES); include OMB form 424 signed and dated by an authorized representative (see section III. A. of this document); were submitted by an eligible applicant (see section I.D. of this document); provide for at least a 10-percent cost share but not more than 50 percent (see section I.F. of this document); involve an eligible activity (see section I.C. of this document); address one of the funding priorities for species under Federal or State jurisdiction (see section II.A.-F. of this document); include a budget and a statement of work including milestones (see sections III.C. and III.D.6 of this document); and identify the principal investigator (see section III D.8. of this document). Note, if we find, at any point in the process, that your application does not fully conform to these requirements and the deadline for submission has passed, we will return it to you without further consideration.

We do not have to screen applications before the submission deadline, nor do we have to give you an opportunity to correct

any deficiencies that cause your application to be rejected.

B. Evaluation of Proposed Projects

1. Technical Evaluation

After the initial screening, we will solicit individual evaluations of each project application from three or more appropriate private and public sector experts to determine the technical merit. No consensus recommendations will be made. Reviewers will be required to certify that they do not have a conflict of interest concerning the application(s) they are reviewing. They will assign scores ranging from a minimum of 60 (poor) to a maximum of 100 (excellent) to applications based on the following criteria, with weights shown in parentheses:

a. Soundness of project design/conceptual approach. Applications will be evaluated on the conceptual approach; the likelihood of project results in the time frame specified in the application; whether there is sufficient information to evaluate the project technically; and, if so, the strengths and/or weaknesses of the technical design relative to securing productive results. (50 percent)

b. Project management and experience and qualifications of personnel. The organization and management of the project will be evaluated. The project's principal investigator and other personnel, including consultants and contractors participating in the project, will be evaluated in terms of relevant experience and qualifications. Applications that include consultants and contractors will be reviewed to determine if your involvement, as the primary applicant, is necessary to the conduct of the project and the accomplishment of its objectives. (25 percent)

c. Project evaluation. The methods you propose to monitor and evaluate the success or failure of the project in terms of meeting its original objectives will be examined for potential effectiveness. (10 percent)

d. Project costs. The justification and allocation of the budget in terms of the work to be performed will be evaluated. Unreasonably high or low project costs will be taken into account. (15 percent)

Following the technical review, we will determine the weighted score for each individual review and average the individual technical review scores to determine the final technical score for each application. Then, we will rank applications in descending order by their final technical scores and determine a “cutoff” score that is based on the amount of funds available for grants. We will eliminate from further consideration those applications that scored below the cutoff.

2. Constituent Panel(s)

For those applications at or above the cutoff technical evaluation score, we will solicit individual comments and evaluations from a panel or panels of three or more representatives selected by the Assistant Administrator for Fisheries (AA), NOAA. Regardless of the total number of panels convened, we will convene a separate panel for projects addressing Priority A dealing with Atlantic salmon aquaculture. Panel members will be chosen from the fishing industry, state government, non-government organizations, and others, as appropriate. We will provide panelists with a summary of the technical evaluations, and, for applications to continue a previously funded project, information on progress on the funded work to date.

Each panelist will evaluate the applications in terms of the significance of the problem or opportunity being addressed, the degree to which the project involves collaboration with fishing community members and other appropriate collaborators, proposed means to disseminate project results, and the merits of funding each project. Each panelist will provide a rating from 0-4 (poor to excellent) for each project, and provide comments if they wish. Panelists will not reach consensus on recommendations or scores. Panel members will be required to certify that they do not have a conflict of interest and that they will maintain confidentiality of the panel deliberations.

Following the Constituent Panel meeting, we will average the individual ratings for each project. We will then develop a ranking of projects based on the individual ranks within each of the priority areas. Final rankings will consider projects addressing Priority A separately from projects addressing priorities B through F.

C. Selection Procedures and Project Funding

After projects have been evaluated and ranked, we will use this information, along with input from the NMFS Regional Administrators (RAs) and Office Directors (ODs), to develop recommendations for project funding. RAs/ODs will prepare a written justification for any recommendations for funding that fall outside the ranking order, or for any cost adjustments.

The AA will review the funding recommendations and comments of the RAs/ODs and determine the projects to be funded. The AA will make two sets of final funding decisions: one for proposals addressing priority A and a second set for those addressing Priorities B through F. In making the final selections, the AA may consider costs, geographical distribution, and duplication with other federally funded projects. Awards are not necessarily made to the highest ranked applications.

We will notify you in writing whether your application is selected or not. Furthermore, if your application is not selected, we will return it to you. Successful applications will be incorporated into the award document.

The exact amount of funds, the scope of work, and terms and conditions of a successful award will be determined in preaward negotiations between you and NOAA/NMFS representatives. The funding instrument (grant or cooperative agreement) will be determined by NOAA Grants. You should not initiate your project in expectation of Federal funding until you receive a grant award document signed by an authorized NOAA official.

V. Administrative Requirements

A. Your Obligations as an Applicant

The Commerce Pre-Award Notification Requirements for Grants and Cooperative Agreements published in the Federal Register, October 1, 2001 (66 FR 49917), are applicable to this solicitation. However, please note that Commerce will not implement the requirements of Executive Order 13202 (66 FR 49921), pursuant to guidance issued by the OMB in light of a court opinion which found that the Executive Order was not legally authorized. See Building and Construction Trades Department v. Allbaugh, 172 F. Supp. 2d 138 (D.D.C. 2001). This decision is currently on appeal. When the case has been finally resolved, Commerce will provide further information on implementation of Executive Order 13202.

In addition, you must:

1. Meet all application requirements and provide all information necessary for the evaluation of the proposal(s), including one signed original and nine signed copies of the application.

2. Be available to respond to questions during the review and evaluation of the proposal(s).

3. Complete Item 16 on Standard Form 424 (4-92) regarding clearance by the State Point Of Contact (SPOC) established as a result of Executive Order 12372. You can get the list of SPOCs from any of the NMFS offices listed in this document or from the S-K Home Page (see section I.I. of this document). It is also included in the CFDA. You must contact the SPOC, if your state has one, to see if applications to the S-K Program are subject to review. If SPOC clearance is required, you are responsible for getting that clearance in time to submit your application to the S-K Program by the deadline (see DATES).

4. Complete Standard Form 424B (4-92), “Assurances--Non-construction Programs.”

B. Your Obligations as a Successful Applicant (Recipient)

If you are awarded a grant or cooperative agreement for a project, you must:

1. Manage the day-to-day operations of the project, be responsible for the performance of all activities for which funds are granted, and be responsible for the satisfaction of all administrative and managerial conditions imposed by the award.

2. Keep records sufficient to document any costs incurred under the award, and submit financial status reports (SF 269) to NOAA's Grants Management Division in accordance with the award conditions.

3. Submit semiannual project status reports on the use of funds and progress of the project to us within 30 days after the end of each 6-month period. You will submit these reports to the individual identified as the NMFS Program Officer in the funding agreement.

4. Submit a final report within 90 days after completion of each project to the NMFS Program Officer. The final report must describe the project and include an evaluation of the work you performed and the results and benefits in sufficient detail to enable us to assess the success of the completed project.

We are committed to using available technology to achieve the timely and wide distribution of final reports to those who would benefit from this information. Therefore, you are required to submit final reports in electronic format, in accordance with the award terms and conditions, for publication on the S-K Home Page. You may charge the costs associated with preparing and transmitting your final reports in electronic format to the grant award. We will consider requests for exemption from the electronic submission requirement on a case-by-case basis.

We will provide you with OMB-approved formats for the semiannual and final reports.

5. In addition to the final report in section V.B.4. of this document, we request that you submit any publications printed with grant funds (such as manuals, surveys, etc.) to the NMFS Program Officer for dissemination to the public. Submit either three hard copies or an electronic version of any such publications.

We reserve the right to conduct a post-closeout evaluation of project results in terms of demonstrated benefit to fishing communities, as indicated by awareness of the work conducted, state of knowledge advanced, adoption of techniques or methods developed, implementation of plans prepared, etc. Evaluation may be conducted by appropriate individuals within or outside NOAA. If this process requires any additional information from you, we will first obtain the proper clearances under the PRA.

Classification

Prior notice and an opportunity for public comments are not required by the Administrative Procedure Act (5 U.S.C. 553(a)(2))or any other law for this notice concerning grants, benefits, and contracts.

Furthermore, because a notice is not a regulation, a regulatory flexibility analysis is not required by the Regulatory Flexibility Act or any other law, and none has been prepared.

This action has been determined to be not significant for purposes of Executive Order 12866.

Applications under this program are subject to Executive Order 12372, “Intergovernmental Review of Federal Programs.”

This document contains collection-of-information requirements subject to the PRA. The use of Standard Forms 424, 424B, and SF-LLL (Disclosure of Lobbying Activities) have been approved by the Office of Management and Budget (OMB) under the respective control numbers 0348-0043, 0348-0040, and 0348-0046. NOAA-specific requirements have been approved under OMB control number 0648-0135. These requirements and their estimated response times are 1 hour for a project summary, 1 hour for a budget form, 2.5 hours for a semiannual report, and 13 hours for a final report. These estimates include the time for reviewing instructions, searching existing data sources, gathering and maintaining the data needed, and completing and reviewing the collection of information. Send comments regarding these burden estimates or any other aspect of this collection of information, including suggestions for reducing this burden, to Alicia Jarboe, F/SF2, Room 13112, 1315 East West Highway, Silver Spring, MD 20910-3282.

Notwithstanding any other provision of law, no person is required to respond to, nor shall any person be subject to a penalty for failure to comply with, a collection of information subject to the requirements of the PRA unless that collection of information displays a currently valid OMB control number.

A solicitation for applications can also be obtained through “FedBizOpps.”

Dated: May 8, 2002.
William T. Hogarth,
Assistant Administrator for Fisheries, National Marine Fisheries Service

[FR Doc. 02-12029 Filed 5-13-02; 8:45 am]

BILLING CODE 3510-22-S